DEPARTMENT OF COMMERCE

National Oceanic and Atmospheric Administration

[I.D. 050307C]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Ad Hoc Aquaculture Advisory Panel (AP).

DATES: The Ad Hoc Aquaculture AP meeting will convene at 8 a.m. on Wednesday, May 30, 2007 and conclude Thursday, May 31, 2007 no later than 1 p.m.

ADDRESSES: The meeting will be held at the Wyndham Westshore, 4860 W. Kennedy Blvd., Tampa, FL 33609; telephone: (813) 286-4400.

Council address: Gulf of Mexico Fishery Management Council, 2203 North Lois Avenue, Suite 1100, Tampa, FL 33607.

FOR FURTHER INFORMATION CONTACT: Wayne Swingle, Executive Director, telephone (813) 348-1630.

SUPPLEMENTARY INFORMATION: The Ad Hoc Aquaculture AP will be convened to review an options paper for “Generic Amendment to provide for Regulation of Offshore Marine Aquaculture”. The options paper provides alternatives and conditions for permitting offshore (EEZ) facilities to conduct aquaculture of species of fish endemic to the Gulf of Mexico. The options paper, when completed, will constitute the pubic hearing draft for this activity.

Although other non-emergency issues not on the agenda may come before the Ad Hoc Aquaculture AP for discussion, in accordance with the Magnuson-Stevens Fishery Conservation and Management Act (Magnuson-Stevens Act), those issues may not be the subject of formal action during these meetings. Actions of the Ad Hoc Aquaculture AP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: May 4, 2007.
Tracey L. Thompson,
Acting Director, Office of Sustainable Fisheries, National Marine Fisheries Service.

[FR Doc. E7-8855 Filed 5-8-07; 8:45 am]

BILLING CODE 3510-22-S